Title 3—

The President

Executive Order 13234 of November 9, 2001

Presidential Task Force on Citizen Preparedness in the War on Terrorism

By the authority vested in me as President by the Constitution and the laws of the United States of America, and in order to support and enhance the efforts of the American public with respect to preparedness and volunteerism in the war on terrorism, it is hereby ordered as follows:

Section 1. Establishment. There is hereby established the “Presidential Task Force on Citizen Preparedness in the War On Terrorism” (Task Force).

Sec. 2. Membership. (a) The Task Force shall be composed of the heads of the following executive branch entities, who may designate representatives from within their respective entities to assist them in their duties in connection with the Task Force: the Office of the Vice President, the Office of Homeland Security, the Domestic Policy Council, the Office of Science and Technology Policy, the Office of Management and Budget, the Department of the Treasury, the Department of Justice, the Department of Labor, the Department of Health and Human Services, the Department of Housing and Urban Development, the Department of Transportation, the Department of Energy, the Department of Veterans Affairs, the Environmental Protection Agency, the Federal Emergency Management Agency, and the Corporation for National and Community Service. The heads of other executive branch departments and agencies and other senior executive branch officials may participate in the work of the Task Force upon the invitation of the Co-Chairs.

(b) The heads of the Office of Homeland Security and the Domestic Policy Council, or their designated representatives, shall serve as Co-Chairs of the Task Force.

Sec. 3. Mission. The Task Force shall identify, review, and recommend appropriate means by which the American public can:

(a) prepare in their homes, neighborhoods, schools, places of worship, workplaces, and public places for the potential consequences of any possible terrorist attacks within the United States; and

(b) volunteer to assist or otherwise support State and local public health and safety officials and others engaged in the effort to prevent, prepare for, and respond to any possible terrorist attacks within the United States.

Sec. 4. Reporting Requirement. The Task Force shall submit its recommendations to the President within 40 days from the date of this order.

Sec. 5. Termination of Task Force. The Task Force shall terminate 30 days after submitting its report to the President.

B

THE WHITE HOUSE,

November 9, 2001.

[FR Doc. 01-28762

Filed 11-14-01; 8:45 am]

Billing code 3195-01-P